DEPARTMENT OF COMMERCE

National Oceanic and Atmospheric Administration

RIN 0648-XA958

Magnuson-Stevens Act Provisions; General Provisions for Domestic Fisheries; Application for Exempted Fishing Permit

AGENCY: National Marine Fisheries Service (NMFS), National Oceanic and Atmospheric Administration (NOAA), Department of Commerce.

ACTION: Notice; request for comments.

SUMMARY: NMFS is soliciting public comment on an exempted fishing permit application that would exempt up to three commercial fishing vessels from the Atlantic surfclam and ocean quahog Georges Bank Closure Area. This would continue research to assess the performance of an approved sampling protocol and to allow for continued sample collection and testing to obtain additional data in locations where toxin levels may be higher than were present during the pilot phase of the study. NMFS has made a preliminary determination that the exempted fishing permit application contains all of the required information and warrants further consideration.

DATES: Comments must be received on or before February 21, 2012.

ADDRESSES: Comments on this notice may be submitted by email. The mailbox address for providing email comments is NERO.EFP@noaa.gov. Include in the subject line of the email comment the following document identifier: “Comments on 2012 GB PSP Closed Area Exemption.”

Written comments should be sent to Daniel Morris, Acting Regional Administrator, NMFS, Northeast Regional Office, 55 Great Republic Drive, Gloucester, MA 01930. Mark the outside of the envelope “Comments on 2012 GB PSP Closed Area Exemption.” Comments may also be sent via facsimile (fax) to (978) 281-9135.

Copies of supporting documents referenced in this notice are available from NMFS, 55 Great Republic Drive, Gloucester, MA 01930, and are available via the Internet at www.nero.noaa.gov/sfd/clams.

FOR FURTHER INFORMATION CONTACT: Jason Berthiaume, Fishery Management Specialist, phone (978) 281-9177.

SUPPLEMENTARY INFORMATION: This notice is a revision to a previously published Federal Register notice (76 FR 65698). Complete project history is available in the previously published notice. This Federal Register notice is being published because the objective of the proposed project and the list of participating vessels have changed.

Truex Enterprises initially submitted an EFP application on September 20, 2011. Truex requested the EFP to authorize one fishing vessel to access the Georges Bank Paralytic Shellfish Poisoning (PSP) Closed Area in order to harvest clams and test them for the presence of PSP using a developmental sampling protocol. While this application was being reviewed and was available for public comment, the sampling protocol being tested was adopted into the National Shellfish Sanitation Program by the International Shellfish Sanitation Conference. Because testing of the sampling protocol was the primary objective of the pilot project, NMFS requested that Truex Enterprises resubmit an application for an EFP, as such testing no longer appeared necessary or relevant.

Truex Enterprises submitted a revised application on January 10, 2012. The revised purpose and goal of the project is to continue research to assess the performance of the approved protocol and to allow for sample collection and testing for another year to gain additional data from locations where toxin levels may be higher than were present during the pilot phase of the study. Although the onboard screening protocol was approved in October 2011, the protocol has only been fully evaluated at sea under the pilot study conditions where toxin levels were relatively low, below the regulatory action level. This EFP would allow industry to continue testing through another year, increasing the possibility to evaluate the protocol under varying toxin concentrations.

The revised application also requests up to two additional vessels, for a total of up to three vessels, to be listed under the EFP. With the additional vessels, it is expected that harvest levels would increase from 250,000 bushels (2,007,813 L) total in the original proposal, to approximately 250,000 bushels to 300,000 bushels (2,007,813 L-2,409,375 L) per vessel. It is expected that harvesting under an EFP would occur on approximately 70 fishing trips per vessel. Species to be harvested are surfclams and ocean quahogs utilizing a 170-inch (432-cm) hydraulic clam dredge for the vessel F/V SEAWATCHER I, and two 150-inch (381-cm) hydraulic clam dredges on the F/V PRIDE and F/V PURSUIT. Each vessel would make approximately 30 tows per day of 10 minutes each, at a speed of about 2.5 knots. There are no discards or known interactions with protected species and there would be no activity in any areas closed for Northeast multispecies. All harvest would be accounted for under Atlantic surfclam and ocean quahog quota allocations under the Federal individual transferable quota program.

The additional vessels would help to study the expansion of the protocol from one vessel in a pilot study to more fishing vessels for a wider-spread implementation. Also, the area designated on GB where the research is proposed would be divided into three even sections in which each vessel would collect samples on a regular basis. If it appears that an algal bloom is forming in a given area, spatial and temporal sampling would be increased as needed. This also allows for samples to be collected over a wider area, ensuring samples collected are representative of evenly distributed portions of the entire closure area.

State and Federal agencies will be notified of each trip, place and time of landing, the results of onboard screening, and the dockside laboratory results. Harvested clams would be landed in Massachusetts and Delaware. New Jersey and Rhode Island may be added as additional landing states pending agreements being developed according to the terms of the protocol. Harvested clams would be processed at Sea Watch International in New Bedford, MA, with independent samples from each trip landed being taken for shipment to an independent FDA certified laboratory in Brunswick, ME, and the shellfish held at the processing site under State supervision until the dockside tests are complete. All of the results from activities under the EFPs would be compiled, archived, and made public by the FDA.

Regulations under the Magnuson-Stevens Fishery Conservation and Management Act require publication of this notification to provide interested parties the opportunity to comment on applications for proposed EFPs. The Assistant Regional Administrator has made an initial determination that, based on a preliminary review of the proposed subject research and the criteria provided in section 5.05a-c and section 6.03c.3(a) of NOAA's Administrative Order 216-6, a Categorical Exclusion appears to be justified for this EFP. In accordance with NOAA's Administrative Order 216-6, a Categorical Exclusion, or other appropriate National Environmental Policy Act document, would be completed prior to the issuance of the EFP. Further review and consultation may be necessary before a final determination is made to issue the EFP.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: January 31, 2012.
Steven Thur,
Acting Director, Office of Sustainable Fisheries, National Marine Fisheries Service.

[FR Doc. 2012-2515 Filed 2-2-12; 8:45 am]

BILLING CODE 3510-22-P